DEPARTMENT OF LABOR

Employment and Training Administration

[NAFTA—5984]

Mansfield Plumbing Products, LLC, Kilgore, TX; Notice of Termination of Investigation

Pursuant to Title V of the North American Free Trade Agreement Implementation Act (Pub. L. 103-182) concerning transitional adjustment assistance, hereinafter called (NAFTA-TAA), and in accordance with section 250(a), subchapter D, chapter 2, Title II, of the Trade Act of 1974, as amended (19 U.S.C. 2273), an investigation was initiated on March 12, 2002, in response to a petition filed on behalf of workers at Mansfield Plumbing Products, LLC, Kilgore, Texas.

The petition has been deemed invalid since one of the three petitioners was separated from the subject firm more than one year prior to the date of the petition. Consequently, further investigation in this case would serve no purpose, and the investigation has been terminated.

Signed at Washington, DC, this 13th day of May, 2002.
Linda G. Poole,
Certifying Officer, Division of Trade Adjustment Assistance.

[FR Doc. 02-14793 Filed 6-11-02; 8:45 am]

BILLING CODE 4510-30-P